FEDERAL ELECTION COMMISSION

Sunshine Act Meeting

AGENCY: Federal Election Commission.

FEDERAL REGISTER CITATION OF PREVIOUS ANNOUNCMENT—78 FR 59031 (September 25, 2013)

DATE AND TIME: Tuesday, September 24, 2013 and its Continuation on September 26, 2013 at 10:00 a.m.

PLACE: 999 E Street NW., Washington, DC.

STATUS: This meeting will be closed to the public.

CHANGES IN THE MEETING: The Thursday, September 26, 2013 meeting has been canceled.

PERSON TO CONTACT FOR INFORMATION: Judith Ingram, Press Officer, Telephone: (202) 694-1220.

Shawn Woodhead Werth,
Secretary and Clerk of the Commission.

[FR Doc. 2013-23714 Filed 9-25-13; 11:15 am]

BILLING CODE 6715-01-P